DEPARTMENT OF AGRICULTURE

Forest Service

Wrangell Ranger District; Alaska; Wrangell Island Project Environmental Impact Statement

AGENCY: Forest Service, USDA.

ACTION: Notice of intent to prepare an environmental impact statement.

SUMMARY: The Department of Agriculture, Forest Service will prepare an environmental impact statement (EIS) for the Wrangell Island Project located on Wrangell Island, part of the Wrangell Ranger District of the Tongass National Forest. This proposal is a multi-year stewardship opportunity involving a variety of timber harvest, road construction, and forest restoration and enhancement activities. The proposed project will use the contracting opportunities (timber sales and stewardship contracts) available to the Forest Service to implement the decision.

DATES: Comments concerning the scope of the analysis must be received by January 26, 2011. The draft environmental impact statement is expected in September 2011 and the final environmental impact statement is expected in January 2012.

ADDRESSES: Send written comments to: SWCA, 317 Forest Park Drive, Ketchikan, AK 99901, Attn: Wrangell Island Project EIS. Comments may be hand-delivered to the Wrangell Ranger District, 525 Bennett Drive, Wrangell, AK 99929, Attn: Wrangell Island Project EIS. Comments may also be sent via webform to: http://www.wrangellislandprojecteis.com/comment, or via facsimile to 907-279-7944, Attn: Wrangell Island Project EIS. In all correspondence, please include your name, address, and organization name if you are commenting as a representative of an organization.

FOR FURTHER INFORMATION CONTACT: Tim Piazza, Team Leader, Federal Building, Ketchikan, AK 99901, (907) 228-6318 or Austin O'Brien, Wrangell Ranger District, P.O. Box 51, Wrangell, AK 99929, (907) 874-2323. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Wrangell Island Project is to implement the Forest Plan, aligned with the Tongass National Forest transition strategy and the United States Department of Agriculture (USDA) Strategic Plan FY 2010-2015. In the USDA Strategic Plan, key priorities and desired outcomes such as the goals of rural prosperity, and preservation and maintenance of forests are identified, as well as means and strategies to achieve them. This project will help to provide an economically viable, reliable, long-term supply of timber that will support jobs for the communities of Southeast Alaska and facilitate the transition to a sustainable forest industry based on young-growth management. Forest restoration and enhancement activities on Wrangell Island will be included to further accomplish the goals of the Strategic Plan.

Proposed Action

The Forest Service is proposing a multi-year stewardship project involving a variety of timber harvest, road construction, and forest restoration and enhancement activities. The proposed action would harvest timber from up to 7,489 acres of forested land using various sizes of timber sales, offered over a period of years, within the roaded land base on Wrangell Island. Up to 21 miles of National Forest System road would be constructed and about 12 miles of existing road would be reconstructed. Preliminary analysis shows that up to an estimated 91 million board feet of sawtimber and utility wood could be made available to industry for harvest. Existing log transfer facilities will be used as needed.

Harvest would include helicopter, ground based, and cable-yarding systems and include even-aged and uneven-aged harvest prescriptions to achieve stand objectives. All proposed activities would meet the standards and guidelines of the Tongass Forest Plan.

In conjunction with proposed timber harvest, restoration and stewardship opportunities could include roads and transportation activities (for example, repairing “red pipes” or bridges, erosion control, vegetation removal, or road relocation); recreation activities (for example, campground and trails improvements, picnic sites, or vegetation management); and wildlife and fisheries habitat improvement projects (for example, beach fringe thinning, or placement of large woody debris in streams).

Possible Alternatives

The proposed action includes an estimated harvest of up to 91 million board feet from up to 7,489 acres within the roaded land base on Wrangell Island. Scoping comments will be used by the Forest Service to develop a range of alternatives in response to significant issues. A no-action alternative will be analyzed.

Responsible Official

The responsible official for the decision on this project is the Forest Supervisor, Tongass National Forest, Federal Building, 648 Mission Street, Ketchikan, Alaska, 99901.

Nature of Decision To Be Made

The responsible official will decide whether or not to authorize forest restoration and enhancement activities, timber harvest, and associated road construction on Wrangell Island.

Preliminary Issues

Preliminary potential issues which may be analyzed in the EIS include the potential effects of the project on the timber supply, supporting the timber industry through the transition from old-growth harvest to young-growth management, road management, economic and rural stability, subsistence, and inventoried roadless areas.

Permits or Licenses Required

U.S. Environmental Protection Agency:

• Review Spill Prevention Control and Countermeasure Plan. State of Alaska, Department of Environmental Conservation:

• Certification of Compliance with Alaska Water Quality Standards (401 Certification);

• Storm water discharge permit/National Pollutant Discharge Elimination System review under Section 402 of the Clean Water Act (402);

• Solid Waste Disposal Permit. State of Alaska, Department of Natural Resources (DNR):

• Authorization for occupancy and use of tidelands and submerged lands.

Scoping Process

This notice of intent initiates the scoping process, which guides the development of the environmental impact statement. A scoping document has been posted on the Tongass National Forest public Web site at http://www.fs.fed.us/r10/tongass/projects/projects.shtml. and a scoping letter will be mailed out in late December. Individuals who want to be on the project mailing list should contact the Wrangell Ranger District at the address above. The scoping package will be available at future public open house meetings planned to be held in Wrangell, Alaska and Petersburg, Alaska in January 2011. These meetings will be announced in local newspapers and on local radio stations.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered, however.

Dated: December 16, 2010.
Forrest Cole,
Forest Supervisor.

[FR Doc. 2010-32416 Filed 12-23-10; 8:45 am]

BILLING CODE 3410-11-P